DEPARTMENT OF ENERGY

Federal Energy Regulatory Commission

Notice of Application Accepted for Filing, Ready for Environmental Analysis Soliciting Motions To Intervene, Protests, Comments, Recommendations, Terms and Conditions, and Prescriptions

February 20, 2001.

Take notice that the following hydroelectric application has been filed with the Commission and is available for public inspection.

a. Type of Application: New license.

b. Project No.: 2416-009.

c. Date Filed: October 5, 1999.

d. Applicant: Aquenergy Systems, Incorporated.

e. Name of Project: Ware Shoals.

f. Location: On the Saluda River near the Town of Ware Shoals, within the counties of Laurens, Greenwood, and Abbeville, South Carolina.

g. Filed Pursuant to: Federal Power Act 16 U.S.C. 791(a)-825(r).

h. Applicant Contact: Ms. Beth Harris, P.E., CHI Energy, Inc., 1311A Miller Road, Greenville, SC 29607, 864-281-9630, ext. 105.

i. FERC Contact: Tim Looney at 202-219-2852 or by email at timothy.looney@ferc.fed.us

j. Deadline for filing motions to intervene and protests, comments, recommendations, terms and conditions, and prescriptions: 60 days from the issuance of this notice.

All documents (original and eight copies) should be filed with: David P. Boergers, Secretary, Federal Energy Regulatory Commission, 888 First Street, NE, Washington, DC 20426. Comments and protests may be filed electronically via the internet in lieu of paper. See, 18 CFR 385.2001(a)(1)(iii) and the instructions on the Commission's web site at http://www.ferc.fed.us/efi/doorbell.htm.

The Commission's Rules of Practice require all intervenors filing documents with Commission to serve a copy of that document on each person of the official service list for the project. Further, if an intervenor files comments or documents with the Commission relating to the merits of an issue that may affect the responsibilities of a particular resource agency, they must also serve a copy of the document on that resource agency.

k. This application has been accepted for filing and is now ready for environmental analysis.

l. Description of Project: The existing project of: (1) A 500-foot-long rubble stone masonry dam 27 feet high and topped with 4½ feet high wooden flashboards; (2) an impoundment having a surface area of 88 acres, with 528 acre-feet of storage at normal water surface elevation of 524 feet mean sea level; (3) a power canal; (4) the intake structure; (5) the powerhouse containing two generating units with an installed capacity of 6,200-kW; (5) the tailrace; and (6) appurtenant facilities. The project would have an annual generation of 23,500,000 kWh.

m. A copy of the application is available for inspection and reproduction at the Commission's Public Reference Room, located at 888 First Street, NE, Room 2-A, Washington, DC 20426, or by calling (202) 208-1371. The application may be viewed on http://www.ferc.fed.us/online/rims.htm (call (202) 208-2222 for assistance). A copy is also available for inspection and reproduction at the address in item h above.

n. Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

The Commission directs, pursuant to Section 4.34(b) of the Regulations (see Order No. 533 issued May 8, 1991, 56 FR 23108, May 20, 1991) that all comments, recommendations, terms and conditions and prescriptions concerning the application be filed with the Commission within 60 days from the issuance date of this notice. All reply comments must be filed with the Commission within 105 days from the date of this notice.

Anyone may obtain an extension of time for these deadlines from the Commission only upon a showing of good cause or extraordinary circumstances in accordance with 18 CFR 385.2008.

All filings must (1) bear in all capital letters the title “Protest”, “Motion to Intervene”, “Comments,” “Reply Comments,” “Recommendations,” “Terms and Conditions,” or “Prescriptions;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

David P. Boergers,
Secretary.

[FR Doc. 01-4579 Filed 2-23-01; 8:45 am]

BILLING CODE 6717-01-M